DEPARTMENT OF COMMERCE

National Oceanic and Atmospheric Administration

ENVIRONMENTAL PROTECTION AGENCY

Coastal Nonpoint Pollution Control Program: Proposal To Find That Louisiana Has Satisfied All Conditions of Approval Placed on Its Coastal Nonpoint Pollution Control Program

Correction

In notice document 2022-01586, appearing on pages 4226-4227, in the issue of Thursday, January 27, 2022, make the following correction:

On page 4227, in the third column, the signature block, lines 3 through 9, should read:

Nicole R. LeBoeuf,
Assistant Administrator for Ocean Services and Coastal Zone Management, National Oceanic and Atmospheric Administration.
Radhika Fox,
Assistant Administrator, Office of Water, Environmental Protection Agency.

[FR Doc. C1-2022-01586 Filed 1-28-22; 8:45 am]

BILLING CODE 0099-10-D